Memorandum of January 20, 2025

Return to In-Person Work

Memorandum for the Heads of Executive Departments and Agencies

Heads of all departments and agencies in the executive branch of Government shall, as soon as practicable, take all necessary steps to terminate remote work arrangements and require employees to return to work in-person at their respective duty stations on a full-time basis, provided that the department and agency heads shall make exemptions they deem necessary.

This memorandum shall be implemented consistent with applicable law.

THE WHITE HOUSE,

Washington, January 20, 2025

[FR Doc. 2025-01907

Filed 1-27-25; 8:45 am]

Billing code 3395-F4-P